SMALL BUSINESS ADMINISTRATION

[Disaster Declaration #12736 and #12737]

Missouri Disaster Number MO-00052

AGENCY: U.S. Small Business Administration.

ACTION: Amendment 2.

SUMMARY: This is an amendment of the Presidential declaration of a major disaster for the State of Missouri (FEMA-4012-DR), Dated 08/12/2011.

Incident: Flooding.

Incident Period: 06/01/2011 through 08/01/2011.

Effective Date: 11/08/2011.

Physical Loan Application Deadline Date: 12/12/2011.

EIDL Loan Application Deadline Date: 05/14/2012.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of Missouri, dated 08/12/2011 is hereby amended to extend the deadline for filing applications for physical damages as a result of this disaster to 12/12/2011.

All other information in the original declaration remains unchanged.

(Catalog of Federal Domestic Assistance Numbers 59002 and 59008)

James E. Rivera,
Associate Administrator for Disaster Assistance.

[FR Doc. 2011-29955 Filed 11-18-11; 8:45 am]

BILLING CODE 8025-01-P